DEPARTMENT OF COMMERCE

International Trade Administration

[A-570-890]

Wooden Bedroom Furniture from the People's Republic of China: Extension of Time Limit for the Final Results of the Antidumping Duty Administrative Review and New Shipper Reviews

AGENCY: Import Administration, International Trade Administration, Department of Commerce.

EFFECTIVE DATE: April 20, 2009.

FOR FURTHER INFORMATION CONTACT: Paul Stolz or Sergio Balbontín, AD/CVD Operations, Office 8, Import Administration, International Trade Administration, U.S. Department of Commerce, 14th Street and Constitution Avenue, NW, Washington, DC 20230; telephone: (202) 482-4474 or (202) 482-6478.

SUPPLEMENTARY INFORMATION:

Background

The Department of Commerce (“the Department”) published an antidumping duty order on wooden bedroom furniture (“WBF”) from the People's Republic of China (“PRC”) on January 4, 2005. See Notice of Amended Final Determination of Sales at Less Than Fair Value and Antidumping Duty Order: Wooden Bedroom Furniture From the People's Republic of China, 70 FR 329 (January 4, 2005). On March 7, 2008, the Department published notices of the initiation of the antidumping duty administrative review and new shipper reviews of WBF from the PRC for the period January 1, 2007, through December 31, 2007. See Notice of Initiation of Administrative Review of the Antidumping Duty Order on Wooden Bedroom Furniture From the People's Republic of China, 73 FR 12387 (March 7, 2008) and Wooden Bedroom Furniture From the People's Republic of China; Initiation of New Shipper Reviews, 73 FR 12392 (March 7, 2008). On August 22, 2008, the Department aligned the deadlines and the time limits of the new shipper reviews with the administrative review. See Memorandum to the File “Wooden Bedroom Furniture from the People's Republic of China: Alignment of the 1/1/2007 - 12/31/2007 Annual Administrative Review and the 1/1/2007 - 12/31/2007 New Shipper Review,” dated August 22, 2008. On February 9, 2009, the Department published the preliminary results of the administrative review and the new shipper reviews. See Wooden Bedroom Furniture From the People's Republic of China: Preliminary Results of Antidumping Duty Administrative and New Shipper Reviews and Partial Rescission of Review, 74 FR 6372 (February 9, 2009). The final results of the administrative and new shipper reviews are currently due no later than June 9, 2009.

Extension of Time Limit of Final Results

Section 751(a)(3)(A) of the Tariff Act of 1930, as amended (“the Act”), requires the Department to issue the final results of an administrative review within 120 days after the date on which the preliminary results are published. However, if it is not practicable to complete the review within this time period, section 751(a)(3)(A) of the Act allows the Department to extend the time period to a maximum of 180 days. Completion of the final results of these reviews within the 120-day period is not practicable because the Department will conduct verification in the administrative review and one new shipper review after publication of the preliminary results and, therefore, needs additional time to complete verification reports, to provide an opportunity for comments by interested parties, and to analyze these comments by interested parties on the preliminary results and verification reports, and analyze information gathered at verification. Because it is not practicable to complete these reviews within the time specified under the Act, we are fully extending the time period for issuing the final results of the administrative and new shipper reviews in accordance with section 751(a)(3)(A) of the Act. Therefore, the final results will be due August 8, 2009, which is 180 days from publication of the preliminary results. Because August 8, 2009, falls on a Saturday, however, the final results are now due on the next business day, Monday, August 10, 2009. This notice is published pursuant to sections 751(a) and 777(i) of the Act.

Dated: April 13, 2009.
John M. Andersen,
Acting Deputy Assistant Secretary for Antidumping and Countervailing Duty Operations.

[FR Doc. E9-9042 Filed 4-17-09; 8:45 am]

BILLING CODE 3510-DS-S